DEPARTMENT OF THE INTERIOR

Bureau of Land Management

DEPARTMENT OF AGRICULTURE

Forest Service

Extension of Call for Nominations for Appointment, Santa Rosa and San Jacinto Mountains National Monument Advisory Committee

AGENCIES: Bureau of Land Management, U.S. Department of the Interior; and Forest Service, U.S. Department of Agriculture.

ACTION: Notice of extension to the call for nominations for appointment or re-appointment of representatives and alternates for five positions on the Santa Rosa and San Jacinto Mountains National Monument Advisory Committee.

SUMMARY: The Bureau of Land Management (BLM) and Forest Service announce an extension to the call for nominations for appointment or reappointment for the following five positions on the Santa Rosa and San Jacinto Mountains National Monument Advisory Committee: representative and alternate for the City of Palm Springs; representative and alternate for a local developer or builder organization; representative and alternate for the City of La Quinta; representative and alternate for a local conservation organization; and representative and alternate for the California Department of Fish and Game or the California Department of Parks and Recreation.

DATES: Nomination applications must be submitted to the address listed below no later than 30 days after the date of publication of this notice in the Federal Register.

ADDRESSES: Santa Rosa and San Jacinto Mountains National Monument, c/o Bureau of Land Management, Palm Springs-South Coast Field Office, Attn: Monument Manager, Advisory Committee Nomination Application, P.O. Box 581260, North Palm Springs, California 92258-1260.

FOR FURTHER INFORMATION CONTACT: Jim Foote, Monument Manager, Santa Rosa and San Jacinto Mountains National Monument, telephone (760) 251-4800; facsimile message (760) 251-4899; e-mail jfoote@ca.blm.gov.

SUPPLEMENTARY INFORMATION: The BLM and Forest Service jointly published notice in the Federal Register on April 24, 2006 (71 FR 21039), calling for nominations for appointment or reappointment of representatives and alternates for the five positions listed above. The closing date for submission of nominations was identified as 90 days from the date of publication in the Federal Register. Information regarding qualifications, terms of appointment, and availability of nomination application packages was included in the notice.

Dated: November 2, 2006.
Gail Acheson,
Field Manager, Bureau of Land Management, Palm Springs-South Coast Field Office.

Dated: November 6, 2006.
Laurie Rosenthal,
District Ranger, USDA Forest Service, San Jacinto Ranger District, San Bernardino National Forest.

Dated: November 1, 2006.
Jim Foote,
Monument Manager, Santa Rosa and San Jacinto Mountains National Monument.

[FR Doc. 07-132 Filed 1-16-07; 8:45 am]

BILLING CODE 4310-40-P; 3410-11-P